CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, the Corporation is soliciting comments concerning its proposed marketing questionnaire to help inform volunteer and member recruitment efforts for its various programs and initiatives. The survey, which would be completed voluntarily by current and prospective volunteers or program participants (for example, AmeriCorps members or RSVP volunteers), would be conducted online with visitors to the Corporation's website domains and in focus groups and public discussions with current and prospective volunteers and program participants. Completion of the survey is voluntary.

Copies of the information collection requests can be obtained by contacting the office listed in the address section of this notice.

DATES: Written comments must be submitted to the individual and office listed in the ADDRESSES section by May 2, 2006.

ADDRESSES: You may submit comments, identified by the title of the information collection activity, by any of the following methods:

(1) By mail sent to: Corporation for National and Community Service, Office of Public Affairs; Attention Shannon Maynard, Senior Marketing Specialist, Room 10304C; 1201 New York Avenue, NW., Washington, DC, 20525.

(2) By hand delivery or by courier to the Corporation's mailroom at Room 8102C at the mail address given in paragraph (1) above, between 9 a.m. and 4 p.m. Monday through Friday, except Federal holidays.

(3) By fax to: (202) 606-3460, Attention Shannon Maynard, Senior Marketing Specialist.

(4) Electronically through the Corporation's e-mail address system: smaynard@cns.gov.

FOR FURTHER INFORMATION CONTACT: Shannon Maynard, (202) 606-6713 or by e-mail at smaynard@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Propose to enhance the quality, utility, and clarity of the information to be collected; and

• Propose to minimize the burden of the collection of information on those who are expected to respond, including the use of appropriate automated, electronic, mechanical, or other technological collection techniques or other forms of information technology (e.g., permitting electronic submissions of responses).

Background

The Corporation for National and Community Service is committed to fostering civic engagement through service and volunteering. As part of its efforts to inspire all Americans to serve their communities, the Corporation conducts public service campaigns and awareness activities to recruit participants for its programs—Senior Corps, AmeriCorps, and Learn and Serve America—as well as volunteers for its special initiatives such as Martin Luther King, Jr. Day of Service. In order to be more effective in its marketing and recruitment efforts, the Corporation proposed the creation of a uniform marketing survey for all its programs and initiatives. Survey findings will educate the Corporation about how best to reach potential volunteers with information about volunteer and national service opportunities.

Current Action

The Corporation is soliciting comments concerning its proposed marketing questionnaire to help inform volunteer and member recruitment efforts for its various programs and initiatives. The survey, which would be completed voluntarily by current and prospective volunteers or program participants (for example, AmeriCorps members or RSVP volunteers), would be conducted online with visitors to the Corporation's website domains and in focus groups and public discussions with current and prospective volunteers and program participants. Completion of the survey is voluntary.

Type of Review: New.

Agency: Corporation for National and Community Service.

Title: CNCS Marketing and Recruitment Questionnaire.

OMB Number: None.

Agency Number: None.

Affected Public: Corporation program participants and volunteers.

Total Respondents: 1000.

Frequency: On occasion.

Average Time Per Response: 30 minutes.

Estimated Total Burden Hours: 50 hours

Total Burden Cost (capital/startup): None.

Total Burden Cost (operating/maintenance): None.

Comments submitted in response to this notice will be summarized and/or included in the request for Office of Management and Budget approval of the information collection request; they will also become a matter of public record.

Dated: February 27, 2006
Sandy Scott,
Director of Public Affairs.

[FR Doc. E6-3038 Filed 3-2-06; 8:45 am]

BILLING CODE 6050-$$-P